DEPARTMENT OF HEALTH AND HUMAN SERVICES

Administration for Community Living

Agency Information Collection Activities; Submission for OMB Review; Public Comment Request; Certification of Maintenance of Effort for Title III and Certification of Long Term Care Ombudsman Program Expenditures, OMB #0985-0009

AGENCY: Administration for Community Living, HHS.

ACTION: Notice.

SUMMARY: The Administration for Community Living is announcing that the proposed collection of information listed above has been submitted to the Office of Management and Budget (OMB) for review and clearance as required under the Paperwork Reduction Act of 1995. This 30-Day notice collects comments on the information collection requirements related to the proposed information collection, Certification of Maintenance of Effort for Title III and Certification of Long Term Care Ombudsman Program Expenditures OMB #0985-0009.

DATES: Submit written comments on the collection of information by 11:59 p.m. (EST) or postmarked by January 4, 2021.

ADDRESSES: Submit written comments on the collection of information by:

(a) email to: OIRA_submission@omb.eop.gov, Attn: OMB Desk Officer for ACL;

(b) fax to 202.395.5806, Attn: OMB Desk Officer for ACL; or

(c) by mail to the Office of Information and Regulatory Affairs, OMB, New Executive Office Bldg., 725 17th St. NW, Rm. 10235, Washington, DC 20503, Attn: OMB Desk Officer for ACL.

FOR FURTHER INFORMATION CONTACT: Alice Kelsey, Administration for Community Living, Washington, DC 20201, (202) 795-7342 Alice.Kelsey@ACL.hhs.gov.

SUPPLEMENTARY INFORMATION: In compliance with 44 U.S.C. 3507, ACL has submitted the following proposed collection of information to OMB for review and clearance.

The Certification of Maintenance of Effort under Title III and Certification of Long-Term Care Ombudsman (LTCO) Program Expenditures provide statutorily required information regarding each state's contribution to programs funded under the Older Americans Act and compliance with legislative requirements, pertinent Federal regulations, and other applicable instructions and guidelines issued by ACL. This information will be used for Federal oversight of Title III Programs and Long Term Care Ombudsman Program expenditures.

Comments in Response to the 60-day Federal Register Notice

ACL published a 60-day Federal Register Notice in the Federal Register soliciting public comments on this request. The 60-day FRN published on August 19, 2020, Volume 85, Number 161, pages 51034-51035; ACL did not receive any public comments during the 60-day FRN period. The proposed data collection tools are on the ACL website for review and public comment, please visit https://www.acl.gov/about-acl/public-input.

Estimated Program Burden

ACL estimates the burden associated with this collection of information as follows: 56 State Agencies on Aging respond annually, and it takes each agency an average of one half (.5) hour per State agency per year to complete each form for a total of twenty-eight hours for all state agencies annually. The half hour estimate is based on prior years' experience with States in completing these forms.

Respondent/data collection activity | Number of respondents | Responses per respondent | Hours per response | Annual burden hours
Certification on Maintenance of Effort under Title III | 56 | 1 | .5 | 28
Certification of Long-Term Care Ombudsman Program Expenditures | 56 | 1 | .5 | 28
Total | 112 | 2 | 1 | 56

Dated: November 27, 2020.
Mary Lazare,
Principal Deputy Administrator.

[FR Doc. 2020-26601 Filed 12-2-20; 8:45 am]

BILLING CODE 4154-01-P